DEPARTMENT OF TRANSPORTATION

Federal Aviation Administration

14 CFR Part 39

[Docket No. FAA-2008-0052; Directorate Identifier 2008-NE-01-AD]

RIN 2120-AA64

Airworthiness Directives; Engine Components, Inc. (ECi) Reciprocating Engine Cylinder Assemblies

AGENCY: Federal Aviation Administration (FAA), DOT.

ACTION: Notice of proposed rulemaking (NPRM).

SUMMARY: The FAA proposes to supersede an existing airworthiness directive (AD) for Lycoming Engines (formerly Textron Lycoming) models 320, 360, and 540 series, “Parallel Valve” reciprocating engines, with certain Engine Components, Inc. (ECi) cylinder assemblies, part number (P/N) AEL65102 series “Titan,” installed. That AD currently requires initial and repetitive visual inspections and compression tests to detect cracks at the head-to-barrel interface, replacement of cylinder assemblies found cracked, and replacement of certain cylinder assemblies at new, reduced times-in-service. This proposed AD would require the same actions, but for an expanded population of cylinder assemblies. This proposed AD results from reports of 10 additional cylinder head separations since issuing AD 2008-19-05, on cylinder serial numbers not listed in that AD. We are proposing this AD to prevent loss of engine power due to cracks at the head-to-barrel interface and possible engine failure caused by separation of a cylinder head, which could result in loss of control of the aircraft.

DATES: We must receive any comments on this proposed AD by September 28, 2009.

ADDRESSES: Use one of the following addresses to comment on this proposed AD:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

FOR FURTHER INFORMATION CONTACT: Peter W. Hakala, Aerospace Engineer, Special Certification Office, FAA, Rotorcraft Directorate, 2601 Meacham Blvd., Fort Worth, TX 76193; e-mail: peter.w.hakala@faa.gov; telephone (817) 222-5145; fax (817) 222-5785.

SUPPLEMENTARY INFORMATION:

Comments Invited

We invite you to send any written relevant data, views, or arguments regarding this proposal. Send your comments to an address listed under ADDRESSES. Include “Docket No. FAA-2008-0052; Directorate Identifier 2008-NE-01-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

The FAA proposes to amend 14 CFR part 39 by superseding AD 2008-19-05, Amendment 39-15672 (73 FR 53105, September 15, 2008). That AD requires initial and repetitive visual inspections and compression tests to detect cracks at the head-to-barrel interface, replacement of cylinder assemblies found cracked, and replacement of certain cylinder assemblies, at new reduced times-in-service. That AD was the result of reports of 45 failures with head separations of ECi cylinder assemblies. That condition, if not corrected, could result in loss of engine power due to cracks at the head-to-barrel interface in the cylinder assemblies and possible engine failure caused by separation of a cylinder head, which could result in loss of control of the aircraft.

Actions Since AD 2008-19-05 Was Issued

Since AD 2008-19-05 was issued, we received reports of 10 additional cylinder head separations, on cylinder serial numbers not listed in that AD. To date, there have been a total of 55 head separations resulting in engine shutdowns and emergency landings in airplanes and helicopters.

FAA's Determination and Requirements of the Proposed AD

We have evaluated all pertinent information and identified an unsafe condition that is likely to exist or develop on other products of this same type design. For that reason, we are proposing this AD, which would require initial and repetitive visual inspections and compression tests to detect cracks at the head-to-barrel interface, replacement of cylinder assemblies found cracked, and replacement of certain cylinder assemblies, at new reduced times-in-service. The proposed AD would require:

• Determining if Group “A” or Group “B” ECi cylinder assemblies, P/N AEL65102 series “Titan,” with cylinder head P/N AEL85099, are installed on your engine.

• For any Group “A” cylinder assembly, performing initial and repetitive visual inspections and compression tests, and replacement not later than 2,000 operating hours time-in-service (TIS) or within 25 operating hours TIS if the cylinder assembly exceeds 2,000 operating hours TIS on the effective date of the proposed AD.

• For any Group “A” cylinder assembly installed in a helicopter, performing the same initial and repetitive visual inspections and compression tests, but replacement not later than 1,500 operating hours TIS or within 25 operating hours TIS if the cylinder assembly exceeds 1,500 operating hours TIS on the effective date of the proposed AD.

• Expanding the serial numbers affected of Group “B” cylinder assemblies, and performing the same initial visual inspection and compression test, and replacement not later than 350 operating hours TIS or within 25 operating hours TIS if the cylinder assembly exceeds 350 operating hours TIS on the effective date of the proposed AD.

Costs of Compliance

We estimate that this proposed AD would affect 18,000 ECi cylinder assemblies installed in aircraft of U.S. registry. The visual inspection and compression tests would take about 4 work-hours for each engine. An individual cylinder replacement would require $1,100 for parts and 6 work-hours. Lycoming engines with a set of 4 ECi cylinders would require 12 work-hours for the cylinder replacement. Lycoming engines with a set of 6 ECi cylinders would require 16 work-hours for the cylinder replacement. We estimate 18 percent of the affected population of cylinders would be replaced. We estimate the total cost of the AD to U.S. operators to be $10,172,000. Our estimate is exclusive of any possible warranty coverage.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15672 (73 FR 53105, September 15, 2008) and by adding a new airworthiness directive to read as follows:

Engine Components, Inc. (ECi): Docket No. FAA-2008-0052; Directorate Identifier 2008-NE-01-AD.

Comments Due Date

(a) The Federal Aviation Administration (FAA) must receive comments on this airworthiness directive (AD) action by September 28, 2009.

Affected ADs

(b) This AD supersedes AD 2008-19-05, Amendment 39-15672.

Applicability

(c) If your engine has not been overhauled, or not had any cylinder assemblies replaced since new, no further action is required.

(d) This AD applies to the Lycoming Engines (formerly Textron Lycoming) models 320, 360, and 540 series, “Parallel Valve,” reciprocating engines listed in Table 1 of this AD, with ECi cylinder assembly, part number (P/N) AEL65102 series “Titan,” and with cylinder head, P/N AEL85099, installed.

(1) The applicable cylinder assembly serial numbers (SNs) are SN 1138-02 through SN 35171-22, (referred to in this AD as Group “A” cylinder assemblies); and

(2) SN 35239-01 through SN 42179-30 (referred to in this AD as Group “B” cylinder assemblies).

(3) The cylinder assembly P/N is at the crankcase end of the cylinder assembly, and might be difficult to see. As a guide in determining if your cylinder assemblies are affected, all affected cylinder assemblies have cylinder head P/N AEL85099. The cylinder head P/N is at the top of the cylinder head, near the intake and exhaust valve springs, and is easier to locate than the cylinder assembly P/N.

(4) The set of numbers appearing on the cylinder, above and to the left of the SN, in the form of “123456” is not used for determining applicability.

Table 1—Engine Models
Cylinder assembly part number | Installed on engine models
AEL65102-NST04 | O-320-A1B, A2B, A2C, A2D, A3A, A3B, B2B, B2C, B2D, B2E, B3B, B3C, C2B, C2C, C3B, C3C, D1A, D1AD, D1B, D1C, D1D, D1F, D2A, D2B, D2C, D2F, D2G, D2H, D2J, D3G, E1A, E1B, E1C, E1F, E1J, E2A, E2B, E2C, E2D, E2E, E2F, E2G, E2H, E3D, E3H.
| IO-320-A1A, A2A, B1A, B1B, B1C, B1D, B1E, B2A, D1A, D1AD, D1B, D1C, E1A, E1B, E2A, E2B.
| AEIO-320-D1B, D2B, E1A, E1B, E2A, E2B.
| AIO-320-A1A, A1B, A2A, A2B, B1B, C1B.
| LIO-320-B1A.
AEL65102-NST05 | IO-320-C1A, C1B, C1F, F1A.
| LIO-320-C1A.
AEL65102-NST06 | O-320-A1A, A2A, A2B, A2C, A3A, A3B, A3C, E1A, E1B, E2A, E2C, (also, an O-320 model with no suffix).
| IO-320-A1A, A2A.
AEL65102-NST07 | IO-320-B1A, B1B.
| LIO-320-B1A.
AEL65102-NST08 | O-320-B1A, B1B, B2A, B2B, B3A, B3B, B3C, C1A, C1B, C2A, C2B, C3A, C3B, C3C, D1A, D1B, D2A, D2B, D2C.
AEL65102-NST10 | O-360-A1A, A1C, A1D, A2A, A2E, A3A, A3D, A4A, B1A, B1B, B2A, B2B, C1A, C1C, C1G, C2A, C2B, C2C, C2D, D1A, D2A, D2B.
| IO-360-B1A, B1B, B1C.
| HO-360-A1A, B1A, B1B.
| HIO-360-B1A, B1B.
| AEIO-360-B1B.
| O-540-A1A, A1A5, A1B5, A1C5, A1D, A1D5, A2B, A3D5, A4A5, A4B5, A4C5, A4D5, B1A5, B1B5, B1D5, B2A5, B2B5, B2C5, B4A5, B4B5, D1A5, E1A, E4A5, E4B5, E4C5, F1A5, F1B5, G1A5, G2A5.
| IO-540-C1B5, C1C5, C2C, C4B5, C4B5D, C4C5, D4A5, D4B5, N1A5.
AEL65102-NST12 | O-360-A1A, A1AD, A1D, A1F, A1F6, A1F6D, A1G, A1G6, A1G6D, A1H, A1H6, A1J, A1LD, A1P, A2A, A2D, A2F, A2G, A2H, A3A, A3AD, A3D, A4A, A4AD, A4D, A4G, A4J, A4JD, A4K, A4M, A4N, A4P, A5AD, B1A, B2C, C1A, C1C, C1E, C1F, C1G, C2A, C2B, C2C, C2D, C2E, C4F, C4P, D2A, F1A6, G1A6.
| HO-360-C1A.
| LO-360-A1G6D, A1H6.
| HIO-360-B1A, B1B, G1A.
| LTO-360-A1A6D.
| TO-360-A1A6D.
| IO-360-B1B, B1BD, B1D, B1E, B1F, B1F6, B1G6, B2E, B2F, B2F6, B4A, E1A, L2A, M1A, M1B.
| AEIO-360-B1B, B1D, B1E, B1F, B1F6, B1G6, B1H, B2F, B2F6, B4A, H1A, H1B.
| O-540-A4D5, B2B5, B2C5, B2C5D, B4B5, B4B5D, E4A5, E4B5, E4C5, G1A5, G2A5, H1A5, H1A5D, H1B5, H1B5D, H2A5, H2A5D, H2B5D.
| IO-540-C4B5, C4B5D, C4D5, C4D5D, D4A5, D4B5, D4C5, N1A5, N1A5D, T4A5D, T4B5, T4B5D, T4C5D, V4A5, V4A5D.
| AEIO-540-D4A5, D4B5, D4C5, D4D5.
AEL65102-NST26 | IO-540-J4A5, R1A5.
| TIO-540-C1A, E1A, G1A, H1A.
AEL65102-NST38 | IO-360-F1A.
| TIO-540-AA1AD, AB1AD, AB1BD, AF1A, AG1A, AK1A, C1A, C1AD, K1AD.
| LTIO-540-K1AD.
AEL65102-NST43 | O-360-J2A.
| O-540-F1B5, J1A5D, J1B5D, J1C5D, J1D5D, J2A5D, J2B5D, J2C5D, J2D5D, J3A5, J3A5D, J3C5D.
| IO-540-AB1A5, W1A5, W1A5D, W3A5D.
AEL65102-NST44 | O-540-L3C5D.

The Lycoming Engines (formerly Textron Lycoming) models 320, 360, and 540 series, “Parallel Valve”, reciprocating engines are installed on, but not limited to, the aircraft listed in the following Table 2:

Table 2—Engines Installed On, But Not Limited To
Engine models | Installed on, but not limited to
O-320-A1A | Piper Aircraft: Tri-Pacer (PA-22 “150”, PA-22S “150”), Apache (PA-23), Pawnee (PA-25).
| Doyn Aircraft: Doyn-Cessna (170, 170A, 170B).
| Mooney Aircraft: Mark (20A).
| Dinfia: Ranquel (1A-46).
| Simmering-Graz Pauker: Flamingo (SGP-M-222).
| Aviamilano: Scricciolo (P-19).
| Vos Helicopter Co.: Spring Bok.
O-320-A1B | Piper Aircraft: Tri-Pacer (PA-22 “150”, PA-22S “150”), Apache (PA-23).
| Doyn Aircraft: Doyn-Cessna (170, 170A, 170B).
| S.O.C.A.T.A.: Horizon (Gardan).
O-320-A2A | Piper Aircraft: Tri-Pacer (PA-22 “150”, PA-22S “150”), Agriculture (PA-18A “150”), Super Cub (PA-18 “150”), Caribbean (PA-22 “150”), Pawnee (PA-25).
| Intermountain Mfg. Co.: Call Air Texas (A-5, A-5T).
| Lake Aircraft: Colonial (C-1).
| Rawdon Bros.: Rawdon (T-1, T-15, T-15D).
| Shinn Engineering: Shinn (2150-A).
| Dinfia: Ranquel (1A-46).
| Neiva: (1PD-5802).
| Sud: Gardan-Horizon (GY-80).
| LaVerda: Falco (F8L Series II, America).
| Malmo: Vipan (MF1-10).
| Kingsford Smith: Autocrat (SCRM-153).
| Aero Commander: 100.
O-320-A2B | Piper Aircraft: Tri-Pacer (PA-22 “150”, PA-22S “150”), Cherokee (PA-28 “150”), Super Cub (PA-18 “150”).
| Champion Aircraft: Challenger (7GCA, 7GCB, 7KC), Citabria (7GCAA, 7GCRC), Agriculture (7GCBA).
| Beagle: Pup (150).
| Artic: Interstate S1B2.
| Robinson: R-22.
| Varga: Kachina 2150A.
O-320-A2C | Robinson: R-22.
| Cicare: Cicare AG.
| Bellanca Aircraft: Citabria 150 (7GCAA), Citabria 150S (7GCBC).
O-320-A2D | Piper Aircraft: Apache (PA-23).
O-320-A3A | Doyn Aircraft: Doyn-Cessna (170, 170A, 170B).
| Corben-Fettes: Globe Special (Globe GC-1B).
O-320-A3B | Piper Aircraft: Apache (PA-23).
| Doyn Aircraft: Doyn-Cessna (170, 170A, 170B).
| Teal II: TSC (1A2).
O-320-B1A | Piper Aircraft: Apache (PA-23 “160”).
| Doyn Aircraft: Doyn-Cessna (170, 170A, 170B).
| Malmo: Vipan (MF1-10).
O-320-B1B | Piper Aircraft: Apache (PA-23 “160”).
| Doyn Aircraft: Doyn-Cessna (170, 170A, 170B).
O-320-B2A | Piper Aircraft: Tri-Pacer (PA-22 “160”, PA-22S “160”).
O-320-B2B | Piper Aircraft: Tri-Pacer (PA-22 “160”, PA-22S “160”).
| Beagle: Airedale (D5-160).
| Fuji-Heavy Industries: Fuji (F-200).
| Uirapuru: Aerotec 122.
O-320-B2C | Robinson: R-22.
O-320-B2D | Maule: MX-7-160.
O-320-B2E | Lycon.
O-320-B3A | Piper Aircraft: Apache (PA-23 “160”).
| Doyn Aircraft: Doyn-Cessna (170, 170A, 170B).
O-320-B3B | Piper Aircraft: Apache (PA-23 “160”).
| Doyn Aircraft: Doyn-Cessna (170, 170A, 170B).
| Sud: Gardan (GY80-160).
O-320-C1A | Piper Aircraft: Apache (PA-23 “160”).
| Riley Aircraft: Rayjay (Apache).
O-320-C1B | Piper Aircraft: Apache (PA-23 “160”).
O-320-C3A | Piper Aircraft: Apache (PA-23 “160”).
O-320-C3B | Piper Aircraft: Apache (PA-23 “160”).
O-320-D1A | Sud: Gardan (GY-80).
| Gyroflug: Speed Cancard.
| Grob: G115.
O-320-D1F | Slingsby: T67 Firefly.
O-320-D2A | Piper Aircraft: Cherokee (PA-28S “160”).
| Robin: Major (DR400-140B), Chevalier (DR-360), (R-3140).
| S.O.C.A.T.A.: Tampico TB9.
| Slingsby: T67C Firefly.
| Daetwyler: MD-3-160.
| Nash Aircraft Ltd.: Petrel.
| Aviolight: P66D Delta.
| General Avia: Pinguino.
O-320-D2B | Beech Aircraft: Musketeer (M-23).
| Piper Aircraft: Cherokee (PA-28 “160”).
O-320-D2J | Cessna Aircraft: Skyhawk 172.
O-320-D3G | Piper Aircraft: Warrior II, Cadet (PA-28-161).
O-320-E1A | Grob: G115.
O-320-E1C | M.B.B. (Messerschmitt-Boelkow-Blohm): Monsun (BO-209-B).
O-320-E1F | M.B.B.: Monsun (BO-209-B).
O-320-E2A | Piper Aircraft: Cherokee (PA-28 “140”, PA-28 “150”).
| Robin: Major (DR-340), Sitar, Bagheera (GY-100-135).
| S.O.C.A.T.A.: Super Rallye (MS-886), Rallye Commodore (MS-892).
| Siai-Marchetti: (S-202).
| F.F.A.: Bravo (AS-202/15).
| Partenavia: Oscar (P66B), Bucker (131 APM).
| Aeromot: Paulistina P-56.
| Pezetel: Koliber 150.
O-320-E2C | Beech Aircraft: Musketeer III (M-23III).
| M.B.B.: Monsun (BO-209-B).
O-320-E2D | Cessna Aircraft: Cardinal (172-I, 177).
O-320-E2F | M.B.B.: Monsun (BO-209-B), Wassmer Pacific (WA-51).
O-320-E2G | American Aviation Corp.: Traveler.
O-320-E3D | Piper Aircraft: Cherokee (140).
| Beech Aircraft: Sport.
IO-320-B2A | Piper Aircraft: Twin Comanche (PA-30).
IO-320-B1C | Hi. Shear: Wing.
IO-320-B1D | Ted Smith Aircraft: Aerostar.
IO-320-C1A | Piper Aircraft: Twin Comanche (PA-30 Turbo).
IO-320-D1A | M.B.B.: Monsun (BO-209-C).
IO-320-D1B | M.B.B.: Monsun (BO-209-C).
IO-320-E1A | M.B.B.: Monsun (BO-209-C).
IO-320-E1B | Bellanca Aircraft.
IO-320-E2A | Champion Aircraft: Citabria.
IO-320-E2B | Bellanca Aircraft.
IO-320-F1A | CAAR Engineering: Carr Midget.
LIO-320-B1A | Piper Aircraft: Twin Comanche (PA-39).
LIO-320-C1A | Piper Aircraft: Twin Comanche (PA-39).
AIO-320-B1B | M.B.B.: Monsun (BO-209-C).
AEIO-320-D1B | Slingsby: T67M Firefly.
AEIO-320-D2B | Hundustan Aeronautics Ltd.: HT-2.
AEIO-320-E1A | Bellanca Aircraft.
| Champion Aircraft.
AEIO-320-E1B | Bellanca Aircraft.
| Champion Aircraft: Decathalon (8KCAB-CS).
AEIO-320-E2B | Bellanca Aircraft.
| Champion Aircraft: Decathalon (8KCAB).
O-320-A1A | Riley Aircraft: Riley Twin.
O-360-A1A | Beech Aircraft: Travel Air (95, B-95).
| Piper Aircraft: Comanche (PA-24).
| Intermountain Mfg. Co.: Call Air (A-6).
| Lake Aircraft: Colonial (C-2, LA-4, 4A or 4P).
| Doyn Aircraft: Doyn-Cessna (170B, 172, 172A, 172B).
| Mooney Aircraft: Mark “20B” (M-20B).
| Earl Horton: Pawnee (Piper PA-25).
| Dinfia: Ranquel (1A-51).
| Neiva: (1PD-5901).
| Regente: (N-591).
| Wassmer: Super 4 (WA-50A), Sancy (WA-40), Baladou (WA-40), Pariou (WA-40).
| Sud: Gardan (GY-180).
| Boelkow: (207).
| Partenavia: Oscar (P-66).
| Siai-Marchetti: (S-205).
| Procaer: Picchio (F-15-A).
| S.A.A.B.: Safir (91-D).
| Malmo: Vipan (MF-10B).
| Aero Boero: AB-180.
| Beagle: Airedale (A-109).
| DeHavilland: Drover (DHA-3MK3).
| Kingsford-Smith: Bushmaster (J5-6).
| Aero Engine Service Ltd.: Victa (R-2).
O-360-A1AD | S.O.C.A.T.A.: Tabago TB-10.
O-360-A1D | Piper Aircraft: Comanche (PA-24).
| Lake Aircraft: Colonial (LA-4, 4A or 4P).
| Doyn Aircraft: Doyn-Beech (Beech 95).
| Mooney Aircraft: Master “21” (M-20E), Mark “20B”, “20D”, (M20B, M20C), Mooney Statesman (M-20G).
| Dinfia: Querandi (1A-45).
| Wassmer: (WA-50).
| Malmo: Vipan (MF1-10).
| Cessna Aircraft: Skyhawk.
| Doyn Aircraft: Doyn-Piper (PA-23 “160”).
O-360-A1F6 | Cessna Aircraft: Cardinal.
O-360-A1F6D | Cessna Aircraft: Cardinal 177.
| Teal III: TSC (1A3).
O-360-A1G6 | Aero Commander.
O-360-A1G6D | Beech Aircraft: Duchess 76.
O-360-A1H6 | Piper Aircraft: Seminole (PA-44).
O-360-A1LD | Wassmer: Europa WA-52.
O-360-A1P | Aviat: Husky.
O-360-A2A | Center Est Aeronautique: Regente (DR-253).
| S.O.C.A.T.A.: Rallye Commodore (MS-893).
| Societe Aeronautique Normande: Mousquetaire (D-140).
| Boelkow: Klemm (K1-107C).
| Partenavia: Oscar (P-66).
| Beagle: Husky (D5-180) (J1-U).
O-360-A2D | Piper Aircraft: Comanche (PA-24), Cherokee “C” (PA-28 “180”).
| Mooney Aircraft: Master “21” (M-20D), Mark “21” (M-20E).
O-360-A2E | Std. Helicopter.
O-360-A2F | Aero Commander: Lark (100).
| Cessna Aircraft: Cardinal.
O-360-A2G | Beech Aircraft: Sport.
O-360-A3A | C.A.A.R.P.S.A.N.: (M-23III).
| Societe Aeronautique Normande: Jodel (D-140C).
| Robin: Regent (DR400/180), Remorqueur (DR400/180R), R-3170.
| S.O.C.A.T.A.: Rallye 180GT, Sportavia Sportsman (RS-180).
| Norman Aeroplace Co.: NAC-1 Freelance.
| Nash Aircraft Ltd.: Petrel.
O-360-A3AD | S.O.C.A.T.A.: TB-10.
| Robin: Aiglon (R-1180T).
O-360-A4A | Piper Aircraft: Cherokee “D” (PA-28 “180”).
O-360-A4D | Varga: Kachina.
O-360-A4G | Beech Aircraft: Musketeer Custom III.
O-360-A4K | Grumman American: Tiger.
| Beech Aircraft: Sundowner 180.
O-360-A4M | Piper Aircraft: Archer II (PA-28 “18”).
| Valmet: PIK-23.
O-360-A4N | Cessna Aircraft: 172 (Optional).
O-360-A4P | Penn Yan: Super Cub Conversion.
O-360-A5AD | C. Itoh and Co.: Fuji FA-200.
O-360-B2C | Seabird Aviation: SB7L.
O-360-C1A | Intermountain Mfg. Co.: Call Air (A-6).
O-360-C1E | Bellanca Aircraft: Scout (8GCBC-CS).
O-360-C1F | Maule: Star Rocket MX-7-180.
O-360-C1G | Christen: Husky (A-1).
O-360-C2B | Hughes Tool Co.: (269A).
O-360-C2D | Hughes Tool Co.: (269A).
O-360-C2E | Hughes Tool Co.: (YHO-2HU) Military.
| Bellanca Aircraft: Scout (8GCBC FP).
O-360-C4F | Maule: MX-7-180A.
O-360-C4P | Penn Yan: Super Cub Conversion.
O-360-F1A6 | Cessna Aircraft: Cutlass RG.
O-360-J2A | Robinson: R22.
IO-360-B1A | Beech Aircraft: Travel-Air (B-95A).
| Doyn Aircraft: Doyn-Piper (PA-23 “200”).
IO-360-B1B | Beech Aircraft: Travel-Air (B-95B).
| Doyn Aircraft: Doyn-Piper (PA-23 “200”).
| Fuji: (FA-200).
IO-360-B1D | United Consultants: See-Bee.
IO-360-B1E | Piper Aircraft: Arrow (PA-28 “180R”).
IO-360-B1F | Utva: 75.
IO-360-B2E | C.A.A.R.P. C.A.P. (10).
IO-360-B1F6 | Great Lakes: Trainer.
IO-360-B1G6 | American Blimp: Spector 42.
IO-360-B2F6 | Great Lakes: Trainer.
LO-360-A1G6D | Beech Aircraft: Duchess.
LO-360-A1H6 | Piper Aircraft: Seminole (PA-44).
IO-360-E1A | T.R. Smith Aircraft: Aerostar.
IO-360-L2A | Cessna Aircraft: Skyhawk C-172.
IO-360-M1A | Diamond Aircraft: DA-40.
IO-360-M1B | Vans Aircraft: RV6, RV7, RV8.
| Lancair: 360.
AEIO-360-B1F | F.F.A.: Bravo (200).
| Grob: G115/Sport-Acro.
AEIO-360-B1G6 | Great Lakes.
AEIO-360-B2F | Mundry: CAP-10.
AEIO-360-B4A | Pitts: S-1S.
AEIO-360-H1A | Bellanca Aircraft: Super Decathalon (8KCAB-180).
AEIO-360-H1B | American Champion: Super Decathalon.
VO-360-A1A | Brantly Hynes Helicopter: (B-2).
VO-360-A1B | Brantly Hynes Helicopter: (B-2, B2-A). Military (YHO-3BR).
VO-360-B1A | Brantly Hynes Helicopter: (B-2, B2-A).
IVO-360-A1A | Brantly Hynes Helicopter: (B2-B).
HO-360-B1A | Hughes Tool Co.: (269A).
HO-360-B1B | Hughes Tool Co.: (269A).
HO-360-C1A | Schweizer: (300C).
HIO-360-B1A | Hughes Tool Co.: Military (269-A-1), (TH-55A).
HIO-360-B1B | Hughes Tool Co.: (269A).
HIO-360-G1A | Schweizer: (CB).
O-540-A1A | Rhein-Flugzeugbau: (RF-1).
O-540-A1A5 | Piper Aircraft: Comanche (PA-24 “180”).
| Helio: Military (H-250).
| Yoeman Aviation: (YA-1).
O-540-A1B5 | Piper Aircraft: Aztec (PA-23 “250”), Comanche (PA-24 “250”).
O-540-A1C5 | Piper Aircraft: Comanche (PA-24 “250”).
O-540-A1D | Found Bros.: (FBA-2C).
| Dornier: (DO-28-B1).
O-540-A1D5 | Piper Aircraft: Aztec (PA-23 “250”), Comanche (PA-24 “250”), Military Aztec (U-11A).
| Dornier: (DO-28).
O-540-A2B | Aero Commander: (500).
| Mid-States Mfg. Co.: Twin Courier (H-500), (U-5).
O-540-A3D5 | Piper Aircraft: Navy Aztec (PA-23 “250”).
O-540-B1A5 | Piper Aircraft: Apache (PA-23 “235”).
O-540-B1B5 | Piper Aircraft: Comanche (PA-24 “250”).
| Doyn Aircraft: Doyn-Piper (PA-24 “250”).
O-540-B1D5 | Wassmer: (WA-421).
O-540-B2B5 | Piper Aircraft: Pawnee (PA-25 “235”), Cherokee (PA-28 “235”), Aztec (PA-23 “235”).
| Intermountain Mfg. Co.: Call Air (A-9).
| Rawdon Bros.: Rawdon (T-1).
| S.O.C.A.T.A.: Rallye 235CA.
O-540-B2C5 | Piper Aircraft: Pawnee (PA-25 “235”).
O-540-B4B5 | Piper Aircraft: Cherokee (PA-28 “235”).
| Embraer: Corioca (EMB-710).
| S.O.C.A.T.A.: Rallye 235GT, Rallye 235C.
| Maule: Star Rocket (MX-7-235), Super Rocket (M-6-235), Super Std. Rocket (M-7-235).
O-540-E4A5 | Piper Aircraft: Comanche (PA-24 “260”).
| Aviamilano: Flamingo (F-250).
| Siai-Marchetti: (SF-260), (SF-208).
O-540-E4B5 | Britten-Norman: (BN-2).
| Piper Aircraft: Cherokee Six (PA-32 “260”).
O-540-E4C5 | Pilatus Britten-Norman: Islander (BN-2A-26), Islander (BN-2A-27), Islander II (BN-2B-26), Islander (BN-2A-21), Trislander (BN-2A-Mark III-2).
O-540-F1B5 | Omega Aircraft: (BS-12D1).
| Robinson: (R-44).
O-540-G1A5 | Piper Aircraft: Pawnee (PA-25 “260”).
O-540-H1B5D | Aero Boero: 260.
O-540-H2A5 | Embraer: Impanema “AG”.
| Gippsland: GA-200.
O-540-H2B5D | Aero Boero: 260.
O-540-J1A5D | Maule: Star Rocket (MX-7-235), Super Rocket (M-6-235), Super Std. Rocket (M-7-235).
O-540-J3A5 | Robin: R-3000/235.
O-540-J3A5D | Piper Aircraft: Dakota (PA-28-236).
O-540-J3C5D | Cessna Aircraft: Skylane RG.
O-540-L3C5D | Cessna Aircraft: TR-182, Turbo Skylane RG.
IO-540-C1B5 | Piper Aircraft: Aztec B (PA-23 “250”), Comanche (PA-24 “250”).
IO-540-C1C5 | Riley Aircraft: Turbo-Rocket.
IO-540-C4B5 | Piper Aircraft: Aztec C (PA-23 “250”), Aztec F.
| Wassmer: (WA4-21).
| Avions Pierre Robin: (HR100/250).
| Bellanca Aircraft: Aries T-250.
| Aerofab: Renegade 250.
IO-540-C4D5 | S.O.C.A.T.A.: TB-20.
IO-540-C4D5D | S.O.C.A.T.A.: Trinidad TB-20.
IO-540-D4A5 | Piper Aircraft: Comanche (PA-24 “260”).
| Siai-Marchetti: (SF-260).
IO-540-D4B5 | Cerva: (CE-43 Guepard).
IO-540-J4A5 | Piper Aircraft: Aztec (PA-23 “250”).
IO-540-R1A5 | Piper Aircraft: Comanche (PA-24).
IO-540-T4A5D | General Aviation: Model 114.
IO-540-T4B5 | Commander: 114B.
IO-540-T4B5D | Rockwell: 114.
IO-540-T4C5D | Lake Aircraft: Seawolf.
IO-540-V4A5 | Maule: MT-7-260, M-7-260.
| Aircraft Manufacturing Factory.
IO-540-V4A5D | Brooklands: Scoutmaster.
IO-540-W1A5 | Maule: MX-7-235, MT-7-235, M7-235.
IO-540-W1A5D | Maule: Star Rocket (MX-7-235), Super Rocket (M-6-235), Super Std. Rocket (M-7-235).
IO-540-W3A5D | Schweizer: Power Glider.
AEIO-540-D4A5 | Christen: Pitts (S-2S), (S-2B).
| Siai-Marchetti: SF-260.
| H.A.L.: HPT-32.
| Slingsby: Firefly T3A.
AEIO-540-D4B5 | Moravan: Zlin-50L.
| H.A.L.: HPT-32.
AEIO-540-D4D5 | Burkhart Grob: Grob G, 115T Aero.
TIO-540-C1A | Piper Aircraft: Turbo Aztec (PA-23-250).
TIO-540-K1AD | Piper Aircraft.
TIO-540-AA1AD | Aerofab Inc.: Turbo Renegade (270).
TIO-540-AB1AD | S.O.C.A.T.A.: Trinidad TC TB-21.
TIO-540-AB1BD | Schweizer.
TIO-540-AF1A | Mooney Aircraft: “TLS” M20M.
TIO-540-AG1A | Commander Aircraft: 114TC.
TIO-540-AK1A | Cessna Aircraft: Turbo Skylane T182T.
LTIO-540-K1AD | Piper Aircraft.

Unsafe Condition

(e) This AD results from reports of 10 additional cylinder head separations since issuing AD 2008-19-05, on cylinder serial numbers not listed in that AD. We are issuing this AD to prevent loss of engine power due to cracks at the head-to-barrel interface in the cylinder assemblies and possible engine failure caused by separation of a cylinder head, which could result in loss of control of the aircraft.

Compliance

(f) You are responsible for having the actions required by this AD performed within the compliance times specified unless the actions have already been done.

Engines Overhauled or Cylinder Assemblies Replaced Since New

(g) If your engine was overhauled or had a cylinder assembly replaced since new, do the following:

(1) Before further flight, inspect the maintenance records and engine logbook to determine if the overhaul or repair facility used ECi cylinder assemblies, P/N AEL65102, with cylinder head, PN AEL85099, with a SN 1138-02 through SN 35171-22, or a SN 35239-01 through SN 42179-30, installed.

(2) If the cylinder assemblies are not ECi, P/N AEL65102, no further action is required.

(3) If the cylinder assemblies are ECi, P/N AEL65102, and if the SN is not listed in this AD, no further action is required.

(4) If the cylinder assemblies are ECi, P/N AEL65102, and if the SN is listed in this AD, do the following:

Group “A” Cylinder Assemblies

(i) For Group “A” cylinder assemblies:

(A) Perform an initial visual inspection as specified in paragraphs (h) through (i) of this AD, and an initial compression test as specified in paragraphs (j) through (n) of this AD, within the next 10 operating hours time-in-service (TIS), if the cylinder assembly has 350 or more operating hours TIS on the effective date of this AD, but fewer than 2,000 operating hours TIS.

(B) Perform an initial visual inspection as specified in paragraphs (h) through (i) of this AD, and an initial compression test as specified in paragraphs (j) through (n) of this AD, within the next 10 operating hours TIS, or before exceeding 350 operating hours TIS, whichever occurs later, if the cylinder assembly has fewer than 350 operating hours TIS on the effective date of this AD.

(C) Replace cylinder assemblies installed in helicopter engines within the next 25 operating hours TIS after the effective date of this AD if the cylinder assembly has 1,500 operating hours TIS or more on the effective date of this AD.

(D) Replace cylinder assemblies installed in airplane engines within the next 25 operating hours TIS after the effective date of this AD if the cylinder assembly has 2,000 operating hours TIS or more on the effective date of this AD.

(E) Perform repetitive visual inspections as specified in paragraphs (h) through (i) of this AD, and repetitive compression tests as specified in paragraphs (j) through (n) of this AD, within every 50 operating hours TIS.

(F) Replace cylinder assemblies installed in helicopter engines that pass the visual inspections and compression tests, no later than 1,500 operating hours TIS after the effective date of this AD.

(G) Replace cylinder assemblies installed in airplane engines that pass the visual inspections and compression tests, no later than 2,000 operating hours TIS after the effective date of this AD.

Group “B” Cylinder Assemblies

(ii) For Group “B” cylinder assemblies:

(A) Perform an initial visual inspection as specified in paragraphs (h) through (i) of this AD, and initial compression test as specified in paragraphs (j) through (n) of this AD, within the next 10 operating hours TIS.

(B) Replace the cylinder assembly within the next 25 operating hours TIS after the effective date of this AD if the cylinder assembly has 350 or more operating hours TIS on the effective date of this AD.

(C) Replace cylinder assemblies that pass the initial visual inspections and compression tests, before exceeding 350 operating hours TIS after the effective date of this AD.

Visual Inspection

(h) Visually inspect each cylinder head around the exhaust valve side for cracks or any signs of black or white residue of combustion leakage from cracks.

(i) Replace cracked cylinder assemblies before further flight.

Cylinder Assembly Compression Test

(j) Perform a standard cylinder differential compression test.

(k) During the compression test, if the cylinder pressure gauge reads below 70 pounds-per-square-inch, apply a water and soap solution to the side of the leaking cylinder, near the head-to-barrel interface.

(l) Replace the cylinder assembly before further flight if air leakage and bubbles are observed on the side of the cylinder assembly, near the head-to-barrel interface.

(m) Repair or replace the engine cylinder assembly before further flight if the cause of the low gauge reading in paragraph (l) of this AD is from leaking intake or exhaust valves, or from leaking piston rings.

Prohibition of ECi Cylinder Assemblies Affected by This AD

(n) After the effective date of this AD, do not install any ECi cylinder assembly, P/N AEL65102, with cylinder head, P/N AEL85099, and with SN 1138-02 through SN 35171-22, or SN 35239-01 through SN 42179-30, onto any engine, and do not attempt to repair or reuse these ECi cylinder assemblies.

Alternative Methods of Compliance

(o) The Manager, Special Certification Office, has the authority to approve alternative methods of compliance for this AD if requested using the procedures found in 14 CFR 39.19.

Special Flight Permits

(p) Under 14 CFR part 39.23, we will not approve special flight permits for this AD for engines that have failed the visual inspection or the cylinder assembly compression test required by this AD.

Related Information

(q) Contact Peter W. Hakala, Aerospace Engineer, Special Certification Office, FAA, Rotorcraft Directorate, 2601 Meacham Blvd., Fort Worth, TX 76193; e-mail: peter.w.hakala@faa.gov; telephone (817) 222-5145; fax (817) 222-5785, for more information about this AD.

Issued in Burlington, Massachusetts, on July 21, 2009.
Peter A. White,
Assistant Manager, Engine and Propeller Directorate, Aircraft Certification Service.

[FR Doc. E9-18118 Filed 7-29-09; 8:45 am]

BILLING CODE 4910-13-P